DEPARTMENT OF COMMERCE

Foreign-Trade Zones Board

[Docket 2-2009]

Foreign-Trade Zone 122—Corpus Christi, TX; Request for Manufacturing Authority; Excalibar Minerals, LLC

An application has been submitted to the Foreign-Trade Zones (FTZ) Board (the Board) by the Port of Corpus Christi authority, grantee of FTZ 122, requesting authority on behalf of Excalibar Minerals, LLC (Excalibar) to perform barite milling under FTZ procedures within FTZ 122. The application was submitted pursuant to the provisions of the Foreign-Trade Zones Act, as amended (19 U.S.C. 81a-81u), and the regulations of the Board (15 CFR part 400). It was formally filed on January 29, 2009.

Excalibar has also applied for temporary/interim manufacturing authority at the Corpus Christi facility. The application was formally filed on November 20, 2008 (Docket T-5-2008, 73 FR 73242, 12/2/08).

The Excalibar facility (14 employees) is located at 3202 E. Navigation Boulevard in Corpus Christi, Texas (within Site 1). Under FTZ procedures, Excalibar would produce up to 175,000 tons of ground barite (HTSUS 2511.10.10) annually, primarily for the U.S. market. The foreign component that would be used in production (representing approximately 95 percent of total material inputs) is raw barite (HTSUS 2511.10.50), dutiable at $1.25 per metric ton.

FTZ procedures could exempt Excalibar from customs duty payments on the foreign component used in export production (less than 1 percent of shipments). On domestic sales, Excalibar would be able to choose the duty rate that applies to the finished product (duty-free) for the foreign input noted above that has a higher duty rate.

The company may also realize certain logistical/procedural savings as well as savings on materials that become scrap/waste during manufacturing.

In accordance with the Board's regulations, Christopher Kemp of the FTZ staff is designated examiner to investigate the application and report to the Board.

Public comment is invited from interested parties. Submissions (original and 3 copies) shall be addressed to the Board's Executive Secretary at the address listed below. The closing period for their receipt is April 6, 2009. Rebuttal comments in response to material submitted during the foregoing period may be submitted during the subsequent 15-day period to April 21, 2009.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at christopher_kemp@ita.doc.gov or (202) 482-0862.

Dated: January 29, 2009.
Andrew McGilvray,
Executive Secretary.

[FR Doc. E9-2480 Filed 2-4-09; 8:45 am]

BILLING CODE 3510-DS-P